INTERNATIONAL TRADE COMMISSION

[Inv. No. 337-TA-739]

In the Matter of: Certain Ground Fault Circuit Interrupters and Products Containing Same; Notice of Investigation

AGENCY: U.S. International Trade Commission.

ACTION: Institution of investigation pursuant to 19 U.S.C. 1337.

SUMMARY: Notice is hereby given that a complaint was filed with the U.S. International Trade Commission on September 3, 2010, under section 337 of the Tariff Act of 1930, as amended, 19 U.S.C. 1337, on behalf of Leviton Manufacturing Co., Inc. of Melville, New York. An amended complaint was filed on September 28, 2010. The complaint, as amended, alleges violations of section 337 based upon the importation into the United States, the sale for importation, and the sale within the United States after importation of certain ground fault circuit interrupters and products containing same by reason of infringement of certain claims of U.S. Patent No 7,463,124 (“the '124 patent”); U.S. Patent No. 7,737,809 (“the '809 patent”); and U.S. Patent No. 7,764,151 (“the '151 patent). The complaint further alleges that an industry in the United States exists as required by subsection (a)(2) of section 337.

The complainant requests that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Mareesa A. Frederick, Esq., Office of Unfair Import Investigations, U.S. International Trade Commission, telephone (202) 205-2055.

Authority: The authority for institution of this investigation is contained in section 337 of the Tariff Act of 1930, as amended, and in section 210.10 of the Commission's Rules of Practice and Procedure, 19 CFR 210.10 (2010).

SCOPE OF INVESTIGATION: Having considered the complaint, the U.S. International Trade Commission, on October 1, 2010, ordered that—

(1) Pursuant to subsection (b) of section 337 of the Tariff Act of 1930, as amended, an investigation be instituted to determine whether there is a violation of subsection (a)(1)(B) of section 337 in the importation into the United States, the sale for importation, or the sale within the United States after importation of certain ground fault circuit interrupters and products containing same that infringe one or more of claims 1-7, 9-11, 13-17, 23-26, and 32-36 of the '124 patent; claims 1-11, 13-28, 30-59, 61-64, and 74-83 of the ‘809; and claims 1-4 and 8 of the '151 patent, and whether an industry in the United States exists as required by subsection (a)(2) of section 337;

(2) For the purpose of the investigation so instituted, the following are hereby named as parties upon which this notice of investigation shall be served:

(a) The complainant is:

Leviton Manufacturing Co., Inc., 201 North Service Road, Melville, NY 11747.

(b) The respondents are the following entities alleged to be in violation of section 337, and are the parties upon which the complaint is to be served:

Fujian Hongan Electric Co., Ltd., Yantian Industrial Zone, Xiapu, Fujian, 355106, China.

General Protecht Group, Inc., 222 WeiQi Road, Yueqing Economic Development Zone, Yueqing, Zhejiang 325600, China.

Shanghai ELE Manufacturing Corporation, SEC 2 Xingcheng Industrial Zone, Qingpu, Shanghai 201703, China.

Zhejiang Trimone Co. Ltd., West of Xinxing San Road, South of Duli Road, Economic Development Zone, Pinghu, Zhejiang 314200, China.

Zhejiang Easting House Electric Co., Yaozhuang Industrial Zone, Jiashan, Zhejiang 314100, China.

Menard, Inc., 4777 Menard Drive, Eau Claire, Wisconsin 54703.

Garvin Industries, Inc., 3700 Sandra Street, Franklin Park, IL 60131.

Central Purchasing, LLC, 3491 Mission Oaks Boulevard, Camarillo, CA 93011.

Harbor Freight Tools USA, Inc., 3491 Mission Oaks Boulevard, Camarillo, CA 93011.

Warehouse-Lighting.com LLC, W144 S6305 College Center, Muskego, WI 53150.

SecurElectric Corporation, 2071 Congressional Drive, St. Louis, Missouri 63146.

G-Techt Global Corporation, 560 Wharton Circle, Suite B-1, Atlanta, GA 30336.

Frontier Lighting, Inc., 2090 Palmetto Street, Clearwater, FL 33765.

The Designers Edge, Inc., 11730 N.E. 12th Street, Bellevue, WA 98005.

Orbit Industries, Inc., 2100 S. Figueroa Street, Los Angeles, CA 90007.

Ready Wholesale Electric and Lighting, Inc., d/b/a Ready Wholesale Electric Supply, 18315 Sherman Way, Reseda, CA 91335.

Sutherland Lumber Company, of Kansas City, LLC, d/b/a Sutherlands, 4000 Main Street, Kansas City, MO 64111.

W.E. Aubuchon Co., Inc., d/b/a Aubuchon Hardware, 95 Aubuchon Drive, Westminster, MA 01473.

Westside Wholesale Electric & Lighting, Inc., 7122 Beverly Boulevard #A, Los Angeles, CA 90036.

Deerso, Inc., 910 S.E. 14th Place, Cape Coral, FL 33990. New Aspen Devices Corp., 59 Van Dam Street, Brooklyn, NY 11222.

American Ace Supply Inc., 923 Toland Street, San Francisco, CA 94124.

Safety Plus Products, Inc., 4123 Terminal Drive, McFarland, WI 53558.

Ingram Products, Inc., 8725 Youngerman Ct., Suite 206, Jacksonville, FL 32244.

American Electric Depot Inc., 56-24 199 St., 1FL, Fresh Meadows, NY 11365.

Contractor Lighting & Supply, Inc., 250 East Broad St., Suite 200, Columbus, OH 43215.

Royal Pacific Ltd., 4931 Paseo Del Norte NE, Albuquerque, NM 87113.

Littman Bros. Energy Supplies, Inc., 900 Estes Court, Schaumburg, IL 60193.

Norcross Electric Supply Company, 4190 Capital View Drive, Suwanee, GA 30024.

(c) The Commission investigative attorney, party to this investigation, is Mareesa A. Frederick, Esq., Office of Unfair Import Investigations, U.S. International Trade Commission, 500 E Street, SW., Suite 401, Washington, DC 20436; and

(3) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: October 5, 2010.
Marilyn R. Abbott,
Secretary to the Commission.

[FR Doc. 2010-25409 Filed 10-7-10; 8:45 am]

BILLING CODE 7020-02-P